DEPARTMENT OF COMMERCE

National Oceanic and Atmospheric Administration

[Docket No. 060404095-6132-02]

Northern Gulf of Mexico Cooperative Institute

AGENCY: Office of Oceanic and Atmospheric Research, National Oceanic and Atmospheric Administration (NOAA), Department of Commerce.

ACTION: Notice; correction.

SUMMARY: The Office of Oceanic and Atmospheric Research (OAR) published a notice in the Federal Register on April 10, 2006 announcing availability of funds to establish a Northern Gulf of Mexico (NGOM) Cooperative Institute (CI). That notice contained an error in the description of how proposals on cost-sharing would be evaluated. This notice corrects the error.

FOR FURTHER INFORMATION CONTACT: Dr. John Cortinas, 1315 East West Highway, Room 11554, Silver Spring, Md. 20910 telephone 301-713-9397 x 206. Facsimile: (301) 713-0158; e-mail: John.Cortinas@noaa.gov.

SUPPLEMENTARY INFORMATION:

Correction

In the Federal Register of April 10, 2006, in FR Volume 71, Number 68, on page 18084, the second sentence in the section on cost sharing requirements is incorrect. The sentence, “There is no minimum cost sharing requirement, however, the amount of cost sharing will be considered in determining the level of CI commitment under NOAA's standard evaluation of project costs” is corrected to read, “There is no minimum cost sharing requirement; however, the amount of cost sharing will be considered when determining the level of the CI's commitment under NOAA's standard evaluation criterion for overall qualifications of applicants.”

All other requirements and information listed in the original notice remains the same.

Classification

Pre-Award Notification Requirements for Grants and Cooperative Agreements

The Department of Commerce Pre-Award Notification Requirements for Grants and Cooperative Agreements contained in the Federal Register notice of December 30, 2004 (69 FR 78389) are applicable to this solicitation.

Limitation of Liability

Funding for years 2-5 of the Cooperative Institute is contingent upon the availability of appropriated funds. In no event will NOAA or the Department of Commerce be responsible for application preparation costs if these programs fail to receive funding or are cancelled because of other agency priorities. Publication of this announcement does not oblige NOAA to award any specific project or to obligate any available funds.

Paperwork Reduction Act

This notification involves collection of information requirements subject to the Paperwork Reduction Act. The use of Standard Forms 424, 424A, 424B, and SF-LLL and CD-346 has been approved by the Office of Management and Budget (OMB) respectively under control numbers 0348-0043, 0348-0044, 0348-0040, and 0348-0046 and 0605-0001. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, grants, benefits, and contracts (5 U.S.C. 553(a)(2)). Because notice and opportunity for comments are not required pursuant to U.S.C. 553 or any other law, the analytical requirements of the Regulatory Flexibility Act (5 U.S.C. 601 et seq.) are inapplicable. Therefore, a regulatory flexibility analysis is not required and none has been prepared.

Dated: May 17, 2006.
Mark E. Brown,
Chief Financial Officer, OAR, National Oceanic and Atmospheric Administration.

[FR Doc. E6-7968 Filed 5-23-06; 8:45 am]

BILLING CODE 3510-KD-P